DEPARTMENT OF LABOR

Employment and Training Administration

Agency Information Collection Activities; Comment Request; ETA 9161—Self Employment Assistance (SEA)

ACTION: Notice.

SUMMARY: The Department of Labor's (DOL) Employment and Training Administration (ETA) is soliciting comments concerning a proposed extension for the authority to conduct the information collection request (ICR) titled, “ETA 9161 Self Employment Assistance (SEA).” This comment request is part of continuing Departmental efforts to reduce paperwork and respondent burden in accordance with the Paperwork Reduction Act of 1995 (PRA).

DATES: Consideration will be given to all written comments received by September 13, 2024.

ADDRESSES: A copy of this ICR with applicable supporting documentation, including a description of the likely respondents, proposed frequency of response, and estimated total burden, may be obtained free by contacting Andre Chisolm by telephone at 202-693-3198 (this is not a toll-free number), or by email at Chisolm.Andre.C@dol.gov. For persons with a hearing or speech disability who need assistance to use the telephone system, please dial 711 to access telecommunications relay services.

Submit written comments about, or requests for a copy of, this ICR by mail or courier to the U.S. Department of Labor, Employment and Training Administration, Office of Unemployment Insurance, Room S-4520, 200 Constitution Avenue NW, Washington, DC 20210, by email: Chisolm.Andre.C@dol.gov.

FOR FURTHER INFORMATION CONTACT: Eric Congious by telephone at 202-693-0763. (this is not a toll-free number) or by email at Congious.Eric.L@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The Noncitizen Benefit Clarification and Other Technical Amendments Act of 1998 (Pub. L. 105-306) permanently authorized the SEA program, which is a reemployment program that helps qualifying Unemployment Insurance (UI) claimants start their own businesses. Public Law 112-96, the Middle-Class Tax Relief and Job Creation Act of 2012 (the 2012 Act), expanded the SEA program to provide states the opportunity to allow UI claimants receiving Extended Benefits to participate in the SEA program. Currently, four states operate this reemployment program.

Section 2183(b)(1) of the 2012 Act directs the Secretary of Labor to establish reporting requirements for States that have established SEA programs, which shall include reporting on:

(A) The total number of individuals who received unemployment compensation and (i) were referred to the SEA program; (ii) participated in such program; and (iii) received an allowance under such program;

(B) the total amount of allowances provided to individuals participating in the SEA program;

(C) the total income (as determined by survey or other appropriate method) for businesses that have been established by individuals participating in the SEA program, as well as the total number of individuals employed through such businesses; and

(D) any additional information, as determined appropriate by the Secretary. ETA currently uses Form ETA 9161 as an electronic reporting mechanism to collect this required information. In addition to Public Law 112-96, collection of data is used for oversight of the program as authorized under Section 303(a)(6) of the Social Security Act.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0490.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Self Employment Assistance.

Form: ETA 9161.

OMB Control Number: 1205-0490.

Affected Public: State Workforce Agencies and former SEA participant.

Estimated Number of Respondents: 2,204.

Frequency: Quarterly.

Total Estimated Annual Responses: 17,616.

Estimated Average Time per Response: Varies.

Estimated Total Annual Burden Hours: 8,832 hours.

Total Estimated Annual Other Cost Burden: $0.

Authority: 44 U.S.C. 3506(c)(2)(A).

José Javier Rodríguez,
Assistant Secretary for Employment and Training, Labor.

[FR Doc. 2024-15373 Filed 7-12-24; 8:45 am]

BILLING CODE 4510-FW-P